DEPARTMENT OF ENERGY

Federal Energy Regulatory Commission

[Project No. 14543-000]

Notice of Preliminary Permit Application Accepted for Filing and Soliciting Comments, Motions To Intervene, and Competing Applications; Hydro Green Energy, LLC

On August 5, 2013, Hydro Green Energy, LLC, filed an application for a preliminary permit, pursuant to section 4(f) of the Federal Power Act (FPA), proposing to study the feasibility of the Fort Ross Project to be located near the town of Jenner, Sonoma County, California. The sole purpose of a preliminary permit, if issued, is to grant the permit holder priority to file a license application during the permit term. A preliminary permit does not authorize the permit holder to perform any land-disturbing activities or otherwise enter upon lands or waters owned by others without the owners' express permission.

The proposed project would consist of the following: (1) A 30-foot-high, 3,881-foot-long upper earthen embankment constructed with rubber sheet and asphalt lining; (2) an upper reservoir having a total/usable storage capacity of 5,399 acre-feet at normal maximum operation elevation of 1,700 feet above mean sea level; (3) four 19,000-foot-long by 10-foot-diameter steel lined penstocks connecting the upper reservoir to the Pacific Ocean; (4) a 500-foot-long, 250-foot-diameter concrete lined tailrace; (5) a concrete and steel lined pressure shaft; (6) five 254-megawatt, reversible variable-speed pump-turbines; (7) a new powerhouse and substation located approximately 100 feet below ground and approximately 250 feet long by 75 feet wide by 100 feet high; (8) a vertical access tunnel approximately 400 feet high and 30 feet in diameter; (9) a breakwater constructed from precast concrete tetrapods; and (10) a new single-circuit 230-kilovolt transmission line approximately 24.7 miles in length. The estimated annual generation of the Fort Ross Project would be 3,714.4 gigawatt-hours.

Applicant Contact: Mr. Mark Stover, Hydro Green, LLC, 900 Oakmont Lane, Suite 310, Westmont, IL 60559; phone: (877) 556-6566 ext. 709.

FERC Contact: Mary Greene; phone: (202) 502-8865.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14543-000.

More information about this project, including a copy of the application, can be viewed or printed on the “eLibrary” link of Commission's Web site at http://www.ferc.gov/docs-filing/elibrary.asp. Enter the docket number (P-14543) in the docket number field to access the document. For assistance, contact FERC Online Support.

Dated: October 31, 2013.
Kimberly D. Bose,
Secretary.

[FR Doc. 2013-26660 Filed 11-6-13; 8:45 am]

BILLING CODE 6717-01-P